DEPARTMENT OF STATE

[Public Notice 4603]

Shipping Coordinating Committee

Summary: The Shipping Coordinating Committee (SHC) will conduct an open meeting at 1:00 p.m. on Monday, March 8, 2004, in Room 2415 of the United States Coast Guard Headquarters Building, 2100 2nd Street, SW., Washington, DC 20593-0001. The primary purpose of the meeting is to prepare for the 12th Session of the International Maritime Organization (IMO) Sub-Committee on Flag State Implementation to be held at IMO Headquarters in London, England from March 15th to 19th.

The primary matters to be considered include:

—Measures to enhance maritime security;

—Responsibilities of Governments and measures to encourage flag State compliance;

—Port State control on seafarer's working hours;

—Comprehensive analysis of difficulties encountered in the implementation of IMO instruments;

—Regional cooperation on port State control;

—Reporting procedures on port State control detentions and analysis and evaluation of reports;

—Mandatory reports under MARPOL 73/78;

—Casualty statistics and investigations;

—Port State control officer training for bulk carriers;

—Development of provisions on transfer of class;

—Review of the Survey Guidelines under the HSSC (resolution A.746(18));

—Marking the ship's plans, manuals and other documents with the IMO ship identification number;

—Illegal, unregulated and unreported (IUU) fishing and implementation of resolution A.925(22);

—Consideration of IACS unified interpretations;

—Unique IDs for companies and registered owners;

—Review of reporting requirements for reception facilities.

Members of the public may attend this meeting up to the seating capacity of the room. Interested persons may seek information by writing to Commander Linda Fagan, Commandant (G-MOC), U.S. Coast Guard Headquarters, 2100 Second Street, SW., Room 1116, Washington, DC 20593-0001 or by calling (202) 267-2978.

Dated: February 4, 2004.
Steven Poulin,
Executive Secretary, Shipping Coordinating Committee, Department of State.

[FR Doc. 04-3379 Filed 2-13-04; 8:45 am]

BILLING CODE 4710-07-P